DEPARTMENT OF THE TREASURY

Submission for OMB Review; Comment Request

January 24, 2011.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 4, 2011 to be assured of consideration.

Alcohol and Tobacco Tax and Trade Bureau (TTB)

OMB Number: 1513-0001.

Type of Review: Extension without change of a currently approved collection.

Title: Tax Information Authorization.

Form: TTB F 5000.19.

Abstract: TTB F 5000.19 is required by TTB to be filed when a respondent's representative, not having a power of attorney, wishes to obtain confidential information regarding the respondent. After proper completion of the form, information can be released to the representative. TTB uses this form to properly identify the representative and his/her authority to obtain confidential information.

Respondents: Individuals and Households.

Estimated Total Burden Hours: 50 hour.

OMB Number: 1513-0003.

Type of Review: Extension without change of a currently approved collection.

Title: Referral of Information.

Form: TTB F 5000.21.

Abstract: When we discover potential violations of Federal, State, or local, we use TTB F 5000.21 to make referrals to Federal, State, or local agencies to determine if they plan to take action, and to internally refer potential violations of TTB administered statutes. We also use TTB F 5000.21 to evaluate effectiveness of these referrals.

Respondents: Federal Government.

Estimated Total Burden Hours: 500 hour.

Clearance Officer: Gerald Isenberg, Alcohol and Tobacco Tax and Trade Bureau, Room 200 East, 1310 G Street, NW, Washington, DC 20005; (202) 453-2097.

OMB Reviewer: Shagufta Ahmed, Office of Management and Budget, New Executive Office Building, Room 10235, Washington, DC 20503; (202) 395-7873.

Celina M. Elphage,
Treasury PRA Clearance Officer.

[FR Doc. 2011-1915 Filed 1-27-11; 8:45 am]

BILLING CODE 4810-31-P